DEPARTMENT OF TRANSPORTATION

Federal Aviation Administration

Notice of Intent To Rule on Request to Release Airport Property at the Cheyenne Airport, Cheyenne, WY

AGENCY: Federal Aviation Administration (FAA), DOT.

ACTION: Notice of request to release airport property.

SUMMARY: The FAA proposes to rule and invite public comment on the release of land at Cheyenne Airport under the provisions of Section 125 of the Wendell H. Ford Aviation Investment Reform Act for the 21st Century (AIR 21).

DATES: Comments must be received on or before July 18, 2002.

ADDRESSES: Comments on this application may be mailed or delivered to the FAA at the following address: Mr. Alan Wiechmann, Manager, Federal Aviation Administration, Northwest Mountain Region, Airports Division, Denver Airports District Office, DEN-600, 26805 E. 68th Ave., Suite 224, Denver, Colorado 80249-6361.

In addition, one copy of any comments submitted to the FAA must be mailed or delivered to: Mr. Gerald K. Olson, Director of Aviation, Cheyenne Airport, 200 East 8th Avenue, Cheyenne, Wyoming 82003-2210.

FOR FURTHER INFORMATION CONTACT: Mr. Phillip J. Braden, Community Planner, Federal Aviation Administration, Northwest Mountain Region, Airports Division, Denver Airports District Office, 26805 E. 68th Ave., Suite 224, Denver, Colorado 80249-6361.

The request to release property may be reviewed in person at this same location.

SUPPLEMENTARY INFORMATION: The FAA invites public comment on the request to release property at the Cheyenne Airport under the provisions of the AIR 21.

On May 20, 2002, the FAA determined that the request to release property at Cheyenne Airport submitted by the city met the procedural requirements of the Federal Aviation Regulations, part 155. The FAA may approve the request, in whole or in part, no later than July 19, 2002.

The following is a brief overview of the request:

The Cheyenne Airport requests the release of .47 acres of airport of airport property to the Wyoming Department of Transportation, Cheyenne, Wyoming. The purpose of this release is to allow the Cheyenne Airport Board to sell the subject land to the Wyoming Department of Transportation for local roadway improvements. The FAA determined that the release of this property will not have an adverse affect on air operations or meeting the safety standards required. The sale of this parcel will provide funds for airport improvements.

Any person may inspect the request by appointment at the FAA office listed above under FOR FURTHER INFORMATION CONTACT.

In addition, any person may, inspect the application, notice and other documents germane to the application in person at Cheyenne Airport, 200 East 8th Avenue, Cheyenne, Wyoming 82003-2210.

Issued in Denver, Colorado on May 30, 2002.
Alan E. Wiechmann,
Manager, Denver Airports District Office.

[FR Doc. 02-15140 Filed 6-17-02; 8:45 am]

BILLING CODE 4910-13-M